NUCLEAR REGULATORY COMMISSION

[Docket No. 52-009-ESP; ASLBP No. 04-823-03-ESP]

System Energy Resources, Inc.; Establishment of Atomic Safety and Licensing Board

Pursuant to delegation by the Commission dated December 29, 1972, published in the Federal Register, 37 FR 28710, the Commission's March 2, 2004, memorandum and order (CLI-04-08, 59 NRC_ (Mar. 2, 2004)), and sections 2.104, 2.300, 2.303, 2.309, 2.311, 2.318, and 2.321 of the Commission's regulations, all as amended, an Atomic Safety and Licensing Board is being established to preside over the following proceeding:

System Energy Resources, Inc. (Early Site Permit for Grand Gulf ESP Site)

This Board is being established pursuant to a January 7, 2004 notice of hearing published in the Federal Register (69 FR 2636 (Jan. 16, 2004)). The hearing will consider the October 16, 2003, application of System Energy Resources, Inc., (SERI) pursuant to 10 CFR part 52 for an early site permit (ESP) for the Grand Gulf ESP site, as well as the February 12, 2004, hearing request and petition to intervene submitted by the Nuclear Information and Resource Service, Public Citizen, the National Association for the Advancement of Colored People Clairborne County, Mississippi Branch, and the Mississippi Chapter of the Sierra Club regarding the SERI ESP application.

The Board is comprised of the following administrative judges:

G. Paul Bollwerk, III, Chair, Atomic Safety and Licensing Board Panel, U.S. Nuclear Regulatory Commission, Washington, DC 20555-0001;

Dr. Paul B. Abramson, Atomic Safety and Licensing Board Panel, U.S. Nuclear Regulatory Commission, Washington, DC 20555-0001;

Dr. Anthony J. Baratta, Atomic Safety and Licensing Board Panel, U.S. Nuclear Regulatory Commission, Washington, DC 20555-0001.

All correspondence, documents, and other materials shall be filed with the administrative judges in accordance with 10 CFR 2.302, and the March 8, 2004, initial prehearing order issued in the proceeding.

Issued in Rockville, Maryland, this 22nd day of March, 2004.
G. Paul Bollwerk, III,
Chief Administrative Judge, Atomic Safety and Licensing Board Panel.

[FR Doc. E4-685 Filed 3-25-04; 8:45 am]

BILLING CODE 7590-01-P